DEPARTMENT OF JUSTICE

Notice of Lodging of Proposed Consent Decree Under The Clean Air Act

On March 6, 2019, the Department of Justice lodged a proposed Consent Decree with the United States District Court for the Eastern District of Texas in the lawsuit entitled United States of America v. ExxonMobil Oil Corporation, Civil Action No. 1:19-cv-121.

The United States has also filed a Complaint, concurrently with the proposed Consent Decree, alleging ExxonMobil Oil Corporation (“ExxonMobil”) violated Sections 112(r)(1) and 112(r)(7) of the Clean Air Act (“CAA”), 42 U.S.C. 7412(r)(1) and (r)(7), which requires measures to prevent accidental releases of extremely hazardous substances that can have serious public health and environmental consequences. The Consent Decree and Complaint address CAA claims arising from an April 17, 2013 fire at ExxonMobil's oil refinery in Beaumont, Texas, that killed two workers and injured ten others.

Under the proposed Consent Decree, ExxonMobil will pay a $616,000 civil penalty, hire an independent third party auditor, and perform a supplemental environmental project (“SEP”). The auditor will conduct a compliance audit of ExxonMobil's procedures for opening process equipment at ten different process units at the refinery and also evaluate the company's procedures for conducting risk-based mechanical integrity inspections. The SEP requires ExxonMobil to purchase a hazardous materials Incident Command Vehicle, valued at $730,000, for the Beaumont Fire & Rescue Service.

The publication of this notice opens a period for public comment on the proposed Consent Decree. Comments should be addressed to the Assistant Attorney General, Environment and Natural Resources Division, and should refer to United States of America v. ExxonMobil Oil Corporation, D.J. Ref. No. 90-5-2-1-11637. All comments must be submitted no later than thirty (30) days after the publication date of this notice. Comments may be submitted by either email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $7.25 (25 cents per page reproduction cost) payable to the United States Treasury.

Thomas Carroll,
Assistant Section Chief, Environmental Enforcement Section, Environment and Natural Resources Division.

[FR Doc. 2019-04495 Filed 3-11-19; 8:45 am]

BILLING CODE 4410-15-P